DEPARTMENT OF THE TREASURY

Internal Revenue Service

26 CFR Part 1

[REG-139068-08]

RIN 1545-BI31

Modification to Consolidated Return Regulation Permitting an Election To Treat a Liquidation of a Target, Followed by a Recontribution to a New Target, as a Cross-Chain Reorganization; Correction

AGENCY: Internal Revenue Service (IRS), Treasury.

ACTION: Correction to a notice of proposed rulemaking by cross-reference to temporary regulations.

SUMMARY: This document contains corrections to a notice of proposed rulemaking by cross-reference to temporary regulations (REG-139068-08) that were published in the Federal Register on Friday, September 4, 2009 (74 FR 45789) modifying the election under which a consolidated group can avoid immediately taking into account an intercompany item after the liquidation of a target corporation. This modification was made necessary in light of the regulations under section 368 that were issued in October 2007 addressing transfers of assets or stock following a reorganization.

FOR FURTHER INFORMATION CONTACT: Mary W. Lyons, (202) 622-7930 (not a toll-free number).

SUPPLEMENTARY INFORMATION:

Background

A notice of proposed rulemaking by cross-reference to temporary regulations that is the subject of this document is under section 1502 of the Internal Revenue Code.

Need for Correction

As published, a notice of proposed rulemaking by cross-reference to temporary regulations (REG-139068-08) contains errors that may prove to be misleading and are in need of clarification.

Correction of Publication

Accordingly, the publication of a notice of proposed rulemaking by cross-reference to temporary regulations (REG-139068-08), which was the subject of FR Doc. E9-21323, is corrected as follows:

§ 1.1502-13 [Corrected]

1. On page 45791, column 1, paragraph (f)(5)(ii)(B)(1), lines 2 and 3, the language “amendments to § 1.1502-13(B)(1) is the same as the text of § 1.1502-13T(B)(1)” is corrected to read “amendments to § 1.1502-13(f)(5)(ii)(B)(1) is the same as the text of § 1.1502-13T(f)(5)(ii)(B)(1)”.

2. On page 45791, column 1, paragraph (f)(5)(ii)(B)(2), lines 2 and 3, the language “amendments to § 1.1502-13(B)(2) is the same as the text of § 1.1502-13T(B)(2)” is corrected to read “amendments to § 1.1502-13(f)(5)(ii)(B)(2) is the same as the text of § 1.1502-13T(f)(5)(ii)(B)(2)”.

3. On page 45791, column 1, paragraph (f)(5)(ii)(F), lines 2 and 3, the language “amendments to § 1.1502-13(F) is the same as the text of § 1.1502-13T(F)” is corrected to read “amendments to § 1.1502-13(f)(5)(ii)(F) is the same as the text of § 1.1502-13T(f)(5)(ii)(F)”.

LaNita Van Dyke,
Chief, Publications and Regulations Branch, Legal Processing Division, Associate Chief Counsel (Procedure and Administration).

[FR Doc. E9-23645 Filed 9-30-09; 8:45 am]

BILLING CODE 4830-01-P